DEPARTMENT OF THE INTERIOR

Bureau of Land Management

[LLNVB0200000.L51100000.GN0000. LVEMCF020000; 9-08807; TAS: 14X5017]

Notice of Availability of Draft Environmental Impact Statement for the Round Mountain Expansion Project, Nye County, NV

AGENCY: Bureau of Land Management, Interior.

ACTION: Notice of Availability.

SUMMARY: In accordance with the National Environmental Policy Act of 1969, the Bureau of Land Management (BLM) Battle Mountain District, Tonopah Field Office has prepared a Draft Environmental Impact Statement (EIS) for the Round Mountain Expansion Project in Nye County, Nevada, and by this notice is announcing the opening of the comment period.

DATES: To ensure comments will be considered, the BLM must receive written comments on the Draft EIS for the Round Mountain Expansion Project, Nye County, Nevada, within 45 days following the date the Environmental Protection Agency publishes the Notice of Availability in the Federal Register. The BLM will announce future meetings or hearings and any other public involvement activities at least 15 days in advance through public notices, media news releases, and/or mailings.

ADDRESSES: Comments on the Draft EIS may be submitted by the following methods:

• BLM Web site: www.blm.gov/nv/st/en/fo/battle_mountain_field.html.

• Fax: (775) 482-7810;

• E-mail: NV-E-mail Tonopah Field Office@blm.gov; or mail:

• BLM, Attn: Field Manager, P.O. Box 911, Tonopah, NV 89049.

Copies of the Draft EIS for the Round Mountain Expansion Project, Nye County, Nevada, are available in the BLM Battle Mountain District, Tonopah Field Office at the above address.

FOR FURTHER INFORMATION CONTACT: Eric Williams, 775-482-7800.

SUPPLEMENTARY INFORMATION: Round Mountain Gold Corporation, which is a joint venture of Kinross Gold Corporation and Barrick Gold Corporation, proposes to expand its Round Mountain Mine, an existing open-pit gold mining and processing operation. The proposed Round Mountain Expansion Project is located in:

Mount Diablo Meridian, Nevada

T. 9 N., R. 43 E.,

Sec. 1, 2, 3, 10, 11, 12, 14 and 15

T. 9 N., R. 44 E.,

Sec. 6

T. 10 N., R. 43 E.,

Sec. 11, 12, 13, 14, 23, 24, 25, 26, 34, 35 and 36

T. 10 N., R. 44 E.,

Sec. 4, 5, 6, 7, 8, 17, 18, 19, 20, 29, 30 and 31

T. 11 N., R. 43 E.,

Sec. 25 and 36

T. 11 N., R. 44 E.,

Sec. 28, 29, 30, 31, 32 and 33

The area described comprises 15,395 acres, more or less.

The proposed project would increase the existing Round Mountain mine plan boundary by 3,122 acres to a total of 10,385 acres; expand the Round Mountain pit by 209 acres to approximately 1,289 acres; expand the dewatering operations by 1,325 gallons per minute (gpm) to a maximum rate of 7,525 gpm; conduct underground mining operations within the Round Mountain Pit; expand the north waste rock dump by 700 acres to approximately 1,919 acres; construct the new north dedicated leach pad with a footprint of approximately 538 acres, increase the daily production capacity of the Round Mountain mill from 11,000 tons per day to 22,000 tons per day; and increase tailings disposal capacity from a currently authorized 677 acres to approximately 1,563 acres.

Development in the Gold Hill area would include delineating a Gold Hill project boundary of approximately 4,928 acres; excavating an open pit with a footprint of approximately 222 acres; creating two waste rock dumps with combined footprints of approximately 552 acres; constructing and operating a heap leach facility and lined solution ponds with a footprint of approximately 300 acres and constructing a 1.1 mile transportation and utility corridor of about 66.2 acres between the Round Mountain area and the Gold Hill area. The primary method of processing low-grade ore in the Gold Hill area would be heap leaching.

Depending on economics, the Gold Hill operation may be developed either concurrently with the Round Mountain operation or sequentially as mining in the Round Mountain area approaches completion. Construction and operation of the Round Mountain Expansion Project is projected to begin in early 2010 followed by an estimated 13 years of active mining and concurrent reclamation and an additional five years for ore processing and final reclamation.

The Draft EIS addresses environmental issues identified by the BLM and other Federal and state agencies, as well as comments made during the public scoping period in 2006. A range of action alternatives have been developed and analyzed to address the concerns and issues that were identified. The Draft EIS analyzes the environmental effects of the proposed action and alternatives, including the No Action Alternative.

The alternatives include processing all Gold Hill ore in the Gold Hill area rather than trucking some ore to Round Mountain for processing (Gold Hill area processing alternative); constructing an overpass rather than a grade crossing at the intersection of the transportation and utility corridor and County Road 875 (County Road Overpass Alternative) and completing mining at Round Mountain under current BLM authorizations (No Action Alternative). Other alternatives considered, and the rationale for their elimination from detailed analysis, are also discussed. Mitigation measures have been identified, as needed, to minimize potential environmental impacts. The Draft EIS includes an analysis of cumulative impacts to all resources and land uses, including an evaluation of potential impacts to Native American traditional values. Please note that public comments and information submitted including names, street addresses, and e-mail addresses of respondents will be made available for public review and disclosure at the above address during regular business hours (8 a.m. to 4 p.m.), Monday through Friday, except holidays.

Before including your address, phone number, e-mail address, or other personal identifying information in your comment, you should be aware that your entire comment—including your personal identification information—may be made publicly available at any time. While you can ask us in your comment to withhold your personal identifying information from public review, we cannot guarantee that we will be able to do so.

Authority: 40 CFR 1506.6, 43 CFR 3809.

Thomas J. Seley,
Manager, Tonopah Field Office.

[FR Doc. E9-18265 Filed 7-30-09; 8:45 am]

BILLING CODE 4310-HC-P